SECURITIES AND EXCHANGE COMMISSION

Sunshine Act Meeting

Notice is hereby given, pursuant to the provisions of the Government in the Sunshine Act, Pub. L. 94-409, that the Securities and Exchange Commission will hold an Open Meeting on Monday, April 21, 2008 at 10 a.m. in the Auditorium, Room L-002.

Chairman Cox, as duty officer, determined that no earlier notice thereof was possible.

The subject matter of the Open Meeting scheduled for April 21, 2008 will be:

The Commission will consider whether to propose amendments to provide for corporate financial statement information to be filed with the Commission in interactive data format, and a near- and long-term schedule therefor.

At times, changes in Commission priorities require alterations in the scheduling of meeting items.

For further information and to ascertain what, if any, matters have been added, deleted or postponed, please contact:

The Office of the Secretary at (202) 551-5400.

Dated: April 15, 2008.
Nancy M. Morris,
Secretary.

[FR Doc. E8-8517 Filed 4-17-08; 8:45 am]

BILLING CODE 8010-01-P